DEPARTMENT OF ENERGY

Federal Energy Regulatory Commission

Notice of Application to Amend License, and Soliciting Comments, Motions To Intervene, and Protests

August 4, 2000.

a. Application Type: Application to amend the license.

b. Project No: P-10228.

c. Date Filed: April 7, 2000.

d. Applicant: Cannelton Hydroelectric Project, L.P.

e. Name of Project: Cannelton Hydroelectric Project.

f. Location: The Project would be located at the existing U.S. Army Corps of Engineers' Cannelton Lock and Dam on the Ohio River in Hancock County, Kentucky. The project utilizes a federal dam.

g. Filed Pursuant to: Federal Power Act, 16 U.S.C. 791(a)-825(r).

h. Applicant Contact: Cannelton Hydroelectric Project, L.P., 120 Calumet Court, Aiken S.C. 29803. Tel: (803) 642-2749.

i. FERC Contact: Any questions on this notice should be addressed to Ms. Monica Maynard at (202) 219-2652 or by e-mail at monica.maynard@ferc.fed.us.

j. Deadline for filing comments and/or motions: September 8, 2000.

All documents (original and eight copies) should be filed with: Davis P. Boergers, Secretary, Federal Energy Regulatory Commission, 888 First Street, NE., Washington, DC 20426.

Please include the project number (P-10228-013) on any comments or motions filed.

k. Description of Filing: Cannelton Hydroelectric Project, L.P., (Cannelton) proposes to change the dissolved oxygen criteria to be met in the river downstream from the project during project operation required under license article 402.

l. Location of the Application: A copy of the application is available for inspection and reproduction at the Commission's Public Reference Room, located at 888 First Street, NE., Room 2A, Washington, DC 20426, or by calling (202) 208-1371. This filing may be viewed on http://www.ferc.fed.us/online/rims.htm [call (202) 208-2222 for assistance]. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

Filing and Service Responsive Documents—Any filing must bear in all capital letters the title “COMMENTS”, “RECOMMENDATIONS FOR TERMS AND CONDITIONS,” “PROTEST”, OR “MOTION TO INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-20201 Filed 8-9-00; 8:45 am]

BILLING CODE 6717-01-M